TENNESSEE VALLEY AUTHORITY

Paperwork Reduction Act of 1995, as Amended by Public Law 104-13; Submission for OMB Review; Comment Request

AGENCY: Tennessee Valley Authority.

ACTION: Submission for OMB review; comment request.

SUMMARY: The proposed information collection described below will be submitted to the Office of Management and Budget (OMB) for review, as required by the Paperwork Reduction Act of 1995 (44 U.S.C. Chapter 35, as amended). The Tennessee Valley Authority is soliciting public comments on this proposed collection as provided by 5 CFR 1320.8(d)(1). Requests for information, including copies of the information collection proposed and supporting documentation, should be directed to the Agency Clearance Officer: Alice D. Witt, Tennessee Valley Authority, 1101 Market Street (EB 5B), Chattanooga, Tennessee 37402-2801; (423) 751-6832. (SC: 0008ZN2)

Comments should be sent to OMB Office of Information & Regulatory Affairs, Attention: Desk Officer for Tennessee Valley Authority, no later than May 23, 2005.

SUPPLEMENTARY INFORMATION: Type of Request: Regular submission; proposal for a reinstatement of an expired collection with changes, which expired on 8/31/1998, (OMB Control number: 3316-0101).

Title of Information Collection: Customer Survey For TVA Recreation Boating Safety On Tributary Lakes.

Frequency of Use: Once.

Type of Affected Public: Individuals or households.

Small Businesses or Organizations Affected: No.

Federal Budget Functional Category Code: 271.

Estimated Number of Annual Responses: 8,000.

Estimated Total Annual Burden Hours: 2,000.

Estimated Average Burden Hours Per Response: 0.25.

Need For and Use of Information: This survey will collect information from recreational users of TVA lakes on their needs and requirements. The information will be used to assess TVA's operation and to identify potential areas of improvement.

Jacklyn J. Stephenson,
Senior Manager, Enterprise Operations, Information Services.

[FR Doc. 05-7987 Filed 4-20-05; 8:45 am]

BILLING CODE 8120-08-P